DEPARTMENT OF TRANSPORTATION

National Highway Traffic Safety Administration

[Docket No. NHTSA-2003-16612]

Extension of Comment Period on Whether Nonconforming 2002 Ferrari 360 Spider and Coupe Passenger Cars Manufactured From September 1, 2002 Through December 31, 2002 Are Eligible for Importation

AGENCY: National Highway Traffic Safety Administration (NHTSA), DOT.

ACTION: Extension of comment period.

SUMMARY: This document announces the extension of the comment period on a petition for NHTSA to decide that 2002 Ferrari 360 Spider and Coupe passenger cars manufactured from September 1, 2002 through December 31, 2002 that were not originally manufactured to comply with all applicable Federal motor vehicle safety standards are eligible for importation into the United States.

DATES: The closing date for comments on the petition is January 26, 2004.

ADDRESSES: Comments are to be submitted to: Docket Management, Room PL-401, 400 Seventh Street, SW., Washington, DC 20590. [Docket hours are from 9 a.m. to 5 p.m.]. Anyone is able to search the electronic form of all comments received into any of our dockets by the name of the individual submitting the document (or signing the comment, if submitted on behalf of an association, business, labor union, etc.). You may review DOT's complete Privacy Act Statement in the Federal Register published on April 11, 2000 (Volume 65, Number 70; Pages 19477-787) or you may visit http://dms.dot.gov.

FOR FURTHER INFORMATION CONTACT: Coleman Sachs, Office of Vehicle Safety Compliance, NHTSA (202-366-3151).

SUPPLEMENTARY INFORMATION: On December 11, 2003, NHTSA published a notice (at 68 FR 69125) that it had received a petition to decide that nonconforming 2002 Ferrari 360 Spider and Coupe passenger cars manufactured from September 1, 2002 through December 31, 2002 are eligible for importation into the United States. The notice solicited public comments on the petition and stated that the closing date for comments is January 12, 2004.

This is to notify the public that NHTSA is extending the comment period until January 26, 2004. This extension is based on a request from Ferrari North America, Inc. (FNA), the U.S. representative of the vehicle's manufacturer, Ferrari, SpA. FNA requested a 30-day extension of the comment period. The company stated that this extension was needed “because a portion of the comment period was lost due to the holidays, and because of the complexity of the technical analysis necessary to evaluate the petition, particularly with regard to [Federal Motor Vehicle Safety Standard] No. 208 conformance.” Standard No. 208 establishes minimum performance requirements for motor vehicle systems that provide occupant crash protection. FNA contended that the requested 30-day extension “will not prejudice the parties or unduly delay the proceeding and will afford FNA and Ferrari SpA personnel the opportunity to fully evaluate the petition in order to determine the appropriate scope and content of FNA's comments.”

NHTSA has considered FNA's request, and concluded that the full 30-day extension requested by the company is not warranted in this circumstance. The 30-day comment period provided in the notice of petition should have afforded FNA a sufficient opportunity to evaluate the petition and determine the scope and content of its comments. The agency notes, in this regard, that FNA has already had an opportunity to comment on a previous petition seeking import eligibility for 2002 Ferrari 360 passenger cars manufactured before September 1, 2002. The conformity differences between those vehicles and the ones that are the subject of the instant petition should not be so great as to require a 30-day extension in the comment period. However, the agency is willing to provide some extension of the comment period in light of the fact that employee absences over the holiday period may have interfered with FNA's ability to fully evaluate the petition. NHTSA has consequently decided to extend the comment period for an additional two weeks.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(A) and (b)(1); 49 CFR 593.8; delegations of authority at 49 CFR 1.50 and 501.8.

Issued on: January 12, 2004.
Kenneth N. Weinstein,
Associate Administrator for Enforcement.

[FR Doc. 04-926 Filed 1-14-04; 8:45 am]

BILLING CODE 4310-84-U